INTERNATIONAL TRADE COMMISSION

[USITC SE-05-035]

Sunshine Act Meeting

Agency Holding the Meeting: United States International Trade Commission.

Time and Date: October 21, 2005 at 11 a.m.

Place: Room 101, 500 E Street SW., Washington, DC 20436, Telephone: (202) 205-2000.

Status: Open to the public.

Matters To Be Considered:

1. Agenda for future meetings: none

2. Minutes

3. Ratification List

4. Inv. Nos. 701-TA-442-443 and 731-TA-1095-1097 (Preliminary) (Certain Line Paper School Supplies from China, India, and Indonesia)—briefing and vote. (The Commission is currently scheduled to transmit its determination to the Secretary of Commerce on or before October 24, 2005; Commissioners' opinions are currently scheduled to be transmitted to the Secretary of Commerce on or before October 31, 2005.)

5. Outstanding action jackets: none

In accordance with Commission policy, subject matter listed above, not disposed of at the scheduled meeting, may be carried over to the agenda of the following meeting.

Issued: October 11, 2005.
By order of the Commission:
Marilyn R. Abbott,
Secretary to the Commission.

[FR Doc. 05-20794 Filed 10-13-05; 11:07 am]

BILLING CODE 7020-02-P